DEPARTMENT OF ENERGY

Federal Energy Regulatory Commission

Notice of Attendance at the Southwest Power Pool Regional State Committee Meeting, Quarterly Joint Stakeholder Meeting, Annual Meeting of Members and Members' Committee/Board of Directors' Meetings

The Federal Energy Regulatory Commission (Commission) hereby gives notice that Commissioners and members of its staff may attend the meetings of the Southwest Power Pool, Inc., Regional State Committee (RSC), Quarterly Joint Stakeholder Meeting, Annual Meeting of Members and Members' Committee/Board of Directors (Board) as noted below. Their attendance is part of the Commission's ongoing outreach efforts.

The meetings will be held by teleconference at SPP's headquarters, 201 Worthen Drive, Little Rock, AR 72223. All meetings are Central Time.

SPP RSC and Quarterly Joint Stakeholder Meeting

October 24, 2022 (1:00 p.m.-5:00 p.m. CDT)

Annual Meeting of Members and Members' Committee/Board Meeting

October 25, 2022 (8:00 a.m.-3:00 p.m. CDT)

The discussions may address matters at issue in the following proceedings:

Docket No. EL19-75, EDF Renewables, Inc., et al. v. Southwest Power Pool, Inc.

Docket No. EL19-77, Oklahoma Gas & Electric Company v. Southwest Power Pool, Inc.

Docket No. EL19-93, Western Farmers Electric Cooperative v. Southwest Power Pool, Inc.

Docket No. EL19-96, Cimarron Windpower II, LLC v. Southwest Power Pool, Inc.

Docket No. EL21-18, Kansas Electric Power Cooperative, Inc. v. Evergy Kansas Central, Inc.

Docket No. EL21-68, Nebraska Public Power District

Docket No. EL21-77, Tenaska Clear Creek Wind, LLC v. Southwest Power Pool, Inc.

Docket No. EL22-20, Kansas Electric Power Cooperative, Inc. v. Evergy Kansas Central, Inc.

Docket No. EL22-30, Southwestern Public Service Co. v. Southwest Power Pool, Inc.

Docket No. EL22-54, Southwest Power Pool, Inc.

Docket No. EL22-59, Tenaska Clear Creek Wind, LLC v. Southwest Power Pool, Inc. et al.

Docket No. EL22-67, Southwest Power Pool, Inc.

Docket No. EL22-68, Southwest Power Pool, Inc.

Docket No. EL22-69, Southwest Power Pool, Inc.

Docket No. EL22-70, Southwest Power Pool, Inc.

Docket No. EL22-75, Nebraska Public Power District

Docket No. EL22-89, Cage Ranch Solar I, LLC and Cage Ranch Solar II, LLC v. Southwest Power Pool, Inc.

Docket No. ER16-1341, Southwest Power Pool, Inc.

Docket No. ER18-99, Southwest Power Pool, Inc.

Docket No. ER18-194, Southwest Power Pool, Inc.

Docket No. ER18-195, Southwest Power Pool, Inc.

Docket No. ER18-2358, Southwest Power Pool, Inc.

Docket No. ER18-2404, Southwest Power Pool, Inc.

Docket No. ER19-1357, Gridliance High Plains LLC

Docket No. ER20-1313, Gridliance High Plains LLC

Docket No. ER20-1796, Entergy Arkansas, LLC

Docket No. ER20-1954, Southwest Power Pool, Inc.

Docket No. ER20-1961, Southwest Power Pool, Inc.

Docket No. ER20-2040, Southwest Power Pool, Inc.

Docket No. ER20-2041, Southwest Power Pool, Inc.

Docket No. ER20-2042, Southwest Power Pool, Inc.

Docket No. ER20-2044, Southwest Power Pool, Inc.

Docket No. ER20-2574, Southwest Power Pool, Inc.

Docket No. ER20-2575, Southwest Power Pool, Inc.

Docket No. ER20-2577, Southwest Power Pool, Inc.

Docket No. ER21-385, Upper Missouri G. & T. Electric Cooperative, Inc.

Docket No. ER21-1438, Gridliance High Plains LLC

Docket No. ER22-469, Southwest Power Pool, Inc.

Docket No. ER22-643, Southwest Power Pool, Inc.

Docket No. ER22-644, Southwest Power Pool, Inc.

Docket No. ER22-1205, Evergy Kansas Central, Inc.

Docket No. ER22-1378, Golden Spread Electric Cooperative, Inc.

Docket No. ER22-1657, Evergy Kansas Central, Inc.

Docket No. ER22-1697, Southwest Power Pool, Inc.

Docket No. ER22-1719, Southwest Power Pool, Inc.

Docket No. ER22-1728, Basin Electric Power Cooperative

Docket No. ER22-1846, Southwest Power Pool, Inc.

Docket No. ER22-1905, Southwest Power Pool, Inc.

Docket No. ER22-1986, Basin Electric Power Cooperative

Docket No. ER22-2083, Southwest Power Pool, Inc.

Docket No. ER22-2339, Southwest Power Pool, Inc.

Docket No. ER22-2344, Southwest Power Pool, Inc.

Docket No. ER22-2371, Southwest Power Pool, Inc.

Docket No. ER22-2372, Southwest Power Pool, Inc.

Docket No. ER22-2379, Southwest Power Pool, Inc.

Docket No. ER22-2516, Chaves County Solar II, LLC

Docket No. ER22-2648, Omaha Public Power District

Docket No. ER22-2654, Southwest Power Pool, Inc.

Docket No. ER22-2660, Southwest Power Pool, Inc.

Docket No. ER22-2743, Southwest Power Pool, Inc.

Docket No. ER22-2749, Southwest Power Pool, Inc.

Docket No. ER22-2813, Southwest Power Pool, Inc.

Docket No. ER22-2814, Southwest Power Pool, Inc.

Docket No. ER22-2885, 1000 Mile Solar, LLC

Docket No. ER22-2928, Southwest Power Pool, Inc.

Docket No. ER22-2968, Southwest Power Pool, Inc.

Docket No. ER22-2974, Southwest Power Pool, Inc.

Docket No. ER22-2977, Basin Electric Power Cooperative

Docket No. ER23-11, Southwest Power Pool, Inc.

Docket No. ER23-13, Southwest Power Pool, Inc.

Docket No. ER23-17, Southwest Power Pool, Inc.

Docket No. ER23-18, Southwest Power Pool, Inc.

Docket No. ER23-69, Southwest Power Pool, Inc.

Docket No. ER23-72, Southwest Power Pool, Inc.

The meetings are open to the public by teleconference. Registration for the teleconference and additional information are available at www.spp.org.

For more information, contact Patrick Clarey, Office of Energy Market Regulation, Federal Energy Regulatory Commission at (317) 249-5937 or patrick.clarey@ferc.gov.

Dated: October 17, 2022.
Debbie-Anne A. Reese,
Deputy Secretary.

[FR Doc. 2022-22920 Filed 10-20-22; 8:45 am]

BILLING CODE 6717-01-P